DEPARTMENT OF COMMERCE

Economic Development Administration

13 CFR Parts 301 and 304

[Docket No.: 050729210-5331-05]

RIN 0610-AA63

Economic Development Administration Reauthorization Act of 2004 Implementation; Regulatory Revision

AGENCY: Economic Development Administration, Department of Commerce.

ACTION: Final rule; change of effective date.

SUMMARY: On November 14, 2005, the Economic Development Administration (“EDA”) published a final rule in the Federal Register delaying the effective date, from November 14, 2005 until January 31, 2006, of certain provisions of EDA's interim final rule originally published in the Federal Register on August 11, 2005. EDA is publishing this final rule to revoke the November 14, 2005 final rule.

The conference report accompanying the FY 2006 Science, State, Justice, Commerce and Related Agencies Appropriations Act expresses Congressional intent as to specific changes to EDA's August 11, 2005 interim final rule. The changes specified in the conference report include changes to those provisions of the August 11, 2005 interim final for which the effective date was delayed by the final rule published on November 14, 2005. Concurrent with the publication of this final rule, EDA is publishing in the Federal Register an interim final rule to effect those changes to the August 11, 2005 interim final rule specified in the conference report. Capitalized terms used but not otherwise defined in this final rule have the meanings ascribed to them in the August 11, 2005 interim final rule.

DATES: The delayed effective date of January 31, 2006 for the following provisions of the August 11, 2005 interim final rule is changed to December 15, 2005: (i) Section 304.2(c)(2), pertaining to membership of a District Organization's governing body; and (ii) Section 301.4, as the provisions of this section relate to Investment Rates for EDA Planning Investments.

FOR FURTHER INFORMATION CONTACT: Hina Shaikh, Esq., Attorney Advisor, Office of Chief Counsel, Economic Development Administration, Department of Commerce, Room 7005, 1401 Constitution Avenue, NW., Washington, DC 20230; telephone: (202) 482-4687.

SUPPLEMENTARY INFORMATION: EDA published an interim final rule in the Federal Register (70 FR 47002) on August 11, 2005. The interim final rule reflects the amendments made to EDA's authorizing statute, the Public Works and Economic Development Act of 1965 (42 U.S.C. 3121 et seq.) (“PWEDA”), by the Economic Development Administration Reauthorization Act of 2004 (Pub. L. 108-373). In addition to tracking the statutory amendments to PWEDA, the interim final rule reflects EDA's current practices and policies in administering its economic development programs that have evolved since the promulgation of EDA's former regulations. The interim final rule provided for a public comment period from August 11, 2005 through October 11, 2005. Additionally, on September 1, 2005, EDA held a public hearing on the August 11, 2005 interim final rule.

On September 30, 2005, EDA published a final rule in the Federal Register (70 FR 57124) delaying the effective date, from October 1, 2005 until November 14, 2005, of (i) Section 304.2(c)(2) of the interim final rule, pertaining to membership of a District Organization's governing body; and (ii) Section 301.4 of the interim final rule, as the provisions of this section pertain to Investment Rates for EDA Planning Investments. The September 30, 2005 final rule also extended the deadline for submitting public comments on the interim final rule from October 11, 2005 until November 14, 2005. All other provisions of the interim final rule became effective on October 1, 2005. On November 14, 2005, EDA published another final rule in the Federal Register (70 FR 69053) delaying the effective date, from November 14, 2005 until January 31, 2006, of those provisions of the interim final rule for which the effective date was previously delayed by the final rule published on September 30, 2005.

The conference report (H.R. Conf. Rep. No. 109-272; passed by the House of Representatives and the Senate on November 9, 2005 and November 16, 2005, respectively) expresses Congressional intent as to specific changes to the August 11, 2005 interim final rule. The changes specified in the conference report include (but are not limited to) changes to those provisions of the August 11, 2005 interim final for which the effective date was most recently delayed by the final rule published on November 14, 2005.

EDA is publishing this final rule to revoke the November 14, 2005 final rule. Concurrent with the publication of this final rule, EDA is publishing in the Federal Register an interim final rule to effect those changes to the August 11, 2005 interim final rule specified in the conference report. EDA will consider and respond to all comments received during the public comment period on all aspects of this rulemaking, and will make additional revisions to the August 11, 2005 interim final rule in publishing a final rule during 2006.

Classification

Prior notice and opportunity for public comment are not required for rules concerning public property, loans, grants, benefits, and contracts (5 U.S.C. 553(a)(2)). Because prior notice and an opportunity for public comment are not required pursuant to 5 U.S.C. 553, or any other law, the analytical requirements of the Regulatory Flexibility Act (5 U.S.C. 601 et seq.) are inapplicable. Therefore, a regulatory flexibility analysis has not been prepared.

Executive Order No. 12866

It has been determined that this final rule is not significant for purposes of Executive Order 12866.

Congressional Review Act

This final rule is not “major” under the Congressional Review Act (5 U.S.C. 801 et seq.).

Executive Order No. 13132

Executive Order 13132 requires agencies to develop an accountable process to ensure “meaningful and timely input by State and local officials in the development of regulatory policies that have federalism implications.” “Policies that have federalism implications” is defined in Executive Order 13132 to include regulations that have “substantial direct effects on the States, on the relationship between the national government and the States, or on the distribution of power and responsibilities among the various levels of government.” It has been determined that this final rule does not contain policies that have federalism implications.

Dated: December 12, 2005.
Benjamin Erulkar,
Chief Counsel, Economic Development Administration.

[FR Doc. 05-24110 Filed 12-14-05; 8:45 am]

BILLING CODE 3510-24-P